DEPARTMENT OF ENERGY

Office of International Regimes and Agreements; Proposed Subsequent Arrangement

AGENCY: Department of Energy (DOE).

ACTION: Notice of proposed subsequent arrangement.

SUMMARY: This notice is being issued under the authority of Section 131 of the Atomic Energy Act of 1954, as amended (42 U.S.C. 2160). The Department is providing notice of a proposed “subsequent arrangement” under the Agreement for Cooperation in the Peaceful Uses of Nuclear Energy between the United States and the European Atomic Energy Community (EURATOM) and the Agreement for Cooperation Concerning Civil Uses of Atomic Energy between the United States and Norway.

This subsequent arrangement involves the provision of programmatic consent to the Euratom Supply Agency and the Government of Norway for the retransfer of irradiated fuel rods containing a maximum of 30,000 grams of U.S.-origin uranium, containing a maximum of 400 grams U-235, and a up to 400 grams of U.S.-origin plutonium, from the Euratom Supply Agency to the Government of Norway for neutron radiography examination. The specified material, which is now located at Studsvik Nuclear AB, Nykoping, Sweden, will, upon approval, be transferred to the Institut for Energiteknikk (IFE), Halden, Norway between March 2006 and March 2007. IFE Halden is a research institute within the fields of nuclear technology, man-machine communication, and energy technology. The material will be transferred in several shipments, with the plutonium weight per transport remaining below 100 grams. After neutron radiography examination in Norway, the Government of Norway will rely on this programmatic consent to have IFE Halden will return the material to Studsvik Nuclear for final disposal, subject to the same shipping limit of not more than 100 grams of plutonium per transport when the material is returned from Norway to Sweden.

In accordance with Section 131 of the Atomic Energy Act of 1954, as amended, we have determined that this subsequent arrangement will not be inimical to the common defense and security.

This subsequent arrangement will take effect no sooner than fifteen days after the date of publication of this notice.

For the Department of Energy.
Richard Goorevich,
Director, Office of International Regimes and Agreements.

[FR Doc. E6-9217 Filed 6-12-06; 8:45 am]

BILLING CODE 6450-01-P